DEPARTMENT OF HOMELAND SECURITY

Coast Guard

[USCG-2007-29070]

Collection of Information Under Review by Office of Management and Budget: OMB Control Number: 1625-0108

AGENCY: Coast Guard, DHS.

ACTION: Request for comments.

SUMMARY: In compliance with the Paperwork Reduction Act of 1995, the U.S. Coast Guard intends to submit an Information Collection Request (ICR) to the Office of Management and Budget (OMB) requesting an extension of its approval for the following collection of information: 1625-0108, Standard Numbering System for Undocumented Vessels. Before submitting this ICR to OMB, the Coast Guard is inviting comments as described below.

DATES: Comments must reach the Coast Guard on or before November 13, 2007.

ADDRESSES: To make sure your comments and related material do not enter the docket [USCG-2007-29070] more than once, please submit them by only one of the following means:

(1) By mail to the Docket Management Facility (M-30), U.S. Department of Transportation (DOT),West Building Ground Floor, Room W12-140, 1200 New Jersey Avenue, SE., Washington, DC 20590.

(2) By delivery to room W12-140 at the address given in paragraph (1) above, between 9 a.m. and 5 p.m., Monday through Friday, except Federal holidays. The telephone number is (202) 366-9329.

(3) By fax to the Facility at (202) 493-2298.

(4) Electronically through the Web site for the Docket Management System (DMS) at http://dms.dot.gov.

The Docket Management Facility maintains the public docket for this notice. Comments and material received from the public, as well as documents mentioned in this notice as being available in the docket, will become part of this docket and will be available for inspection or copying at room W12-140 on the West Building Ground Floor, 1200 New Jersey Avenue, SE., Washington, DC, between 9 a.m. and 5 p.m., Monday through Friday, except Federal holidays. You may also find this docket on the Internet at http://dms.dot.gov.

Copies of the complete ICRs are available through this docket on the Internet at http://dms.dot.gov. Additionally, copies are available from Commandant (CG-611), U.S. Coast Guard Headquarters, (Attn: Mr. Arthur Requina), 2100 2nd Street, SW., Washington, DC 20593-0001. The telephone number is 202-475-3523.

FOR FURTHER INFORMATION CONTACT: Mr. Arthur Requina, Office of Information Management, telephone 202-475-3523, or fax 202-475-3929, for questions on these documents. Contact Ms. Renee V. Wright, Program Manager, Docket Operations, 202-366-9826, for questions on the docket.

SUPPLEMENTARY INFORMATION:

Public participation and request for comments

We encourage you to respond to this request by submitting comments and related materials. We will post all comments received, without change, to http://dms.dot.gov. They will include any personal information you provide. We have an agreement with DOT to use their Docket Management Facility. Please see the paragraph on DOT's “Privacy Act Policy” below.

Submitting comments: If you submit a comment, please include your name and address, identify the docket number [USCG-2007-29070], indicate the specific section of the document to which each comment applies, providing a reason for each comment. You may submit your comments and material by electronic means, mail, fax, or delivery to the Docket Management Facility at the address under ADDRESSES; but please submit them by only one means. If you submit them by mail or delivery, submit them in an unbound format, no larger than 8½ by 11 inches, suitable for copying and electronic filing. If you submit them by mail and would like to know that they reached the Facility, please enclose a stamped, self-addressed postcard or envelope. We will consider all comments and material received during the comment period. We may change the documents supporting this collection of information or even the underlying requirements in view of them.

Viewing comments and documents: Go to http://dms.dot.gov to view comments and documents mentioned in this notice as being available in the docket. Conduct a simple search using the docket number. You may also visit the Docket Management Facility in room W12-140 on the West Building Ground Floor, 1200 New Jersey Avenue, SE., Washington, DC, between 9 a.m. and 5 p.m., Monday through Friday, except Federal holidays.

Privacy Act: Anyone can search the electronic form of all comments received in dockets by the name of the individual submitting the comment (or signing the comment, if submitted on behalf of an association, business, labor union, etc.). You may review the Privacy Act Statement of DOT in the Federal Register published on April 11, 2000 (65 FR 19477), or you may visit http://dms.dot.gov.

Information Collection Request

Title: Standard Numbering System for Undocumented Vessels.

OMB Control Number: 1625-0108.

Summary: The Standard Numbering System (SNS) collects information on undocumented vessels/owners operating on waters subject to the jurisdiction of the U.S. A vessel is considered undocumented if it has not been issued a certificate under 46 U.S.C chapter 121. Federal, State, and local law enforcement agencies use information from the system for enforcement of boating laws and theft/fraud investigations. Since the September 11, 2001 terrorist attacks on the U.S., the need has increased for identification of undocumented vessels meeting port security and other missions to safeguard the homeland.

Need: Paragraph (a) of 46 U.S.C. 12301 requires undocumented vessels equipped with propulsion machinery of any kind to be numbered in the State where they are principally operated. In 46 U.S.C. 12302(a), Congress authorized the Secretary to prescribe, by regulation, a SNS, directing approval of a State numbering system if it is consistent therewith. Per DHS Delegation No. 0170.1 section 2 (92)(h), the Secretary has delegated his authority under 46 U.S.C. 12301 and 12302 to the Commandant of the Coast Guard. Regulations requiring the numbering of undocumented vessels are in 33 CFR part 173; those applicable to the States for approval of their systems are contained in 33 CFR part 174.

For States not having an approved system, the Federal Government (Coast Guard) must administer the vessel numbering. Currently, all 50 States and 5 Territories have approved numbering systems. In 2006, there were nearly 13 million undocumented vessels registered by the States. The SNS collects information on undocumented vessels/owners. States submit reports annually to the Coast Guard on the number, size, construction, etc., of vessels they have numbered. This information is used by the Coast Guard in (1) publication of “Boating Statistics” reports required by 46 U.S.C. 6102(b), and (2) for allocation of Federal funds to assist States in carrying out the Recreational Boating Safety (RBS) Program established by 46 U.S.C. chapter 131.

On a daily basis, or as warranted, Federal, State, and local law enforcement personnel use SNS information from their system for enforcement of boating laws and for theft/fraud investigations. Additionally, when encountering a vessel suspected of illegal activity, information from the SNS increases officer safety by assisting boarding officers in determining how best to approach a vessel.

Respondents: Owners of all undocumented vessels propelled by machinery are required by Federal law to apply for a number from the issuing authority of the State in which they are to be principally operated. In addition, States may require other vessels, such as sailboats or even canoes and kayaks, to be numbered. Owners may include individuals or households, non-profit organizations, and small businesses (e.g., liveries offering recreational vessels for rental by the public) or other for-profit organizations.

Frequency: On occasion.

Burden Estimate: The estimated burden has increased from 15,507 hours to 286,458 hours a year.

Dated: September 4, 2007.
D. T. Glenn,
Rear Admiral, U.S. Coast Guard, Assistant Commandant for Command, Control, Communications, Computers and Information Technology.

[FR Doc. E7-17815 Filed 9-10-07; 8:45 am]

BILLING CODE 4910-15-P